DEPARTMENT OF TRANSPORTATION

Coast Guard

33 CFR Part 100

[CGD 05-01-004]

RIN 2115-AE46

Special Local Regulations for Marine Events; Approaches to Annapolis Harbor, Spa Creek, and Severn River, Annapolis, Maryland

AGENCY: Coast Guard, DOT.

ACTION: Notice of implementation.

SUMMARY: The Coast Guard is implementing the special local regulations for the 22nd Annual Safety at Sea Seminar, a marine event to be held March 31, 2001, on the waters of Spa Creek and Severn River at Annapolis, Maryland. These special local regulations are necessary to control vessel traffic due to the confined nature of the waterway and expected vessel congestion during the event. The effect will be to restrict general navigation in the regulated area for the safety of spectators and vessels transiting the event area.

DATES: 33 CFR 100.511 is effective from 11:30 a.m. to 3 p.m. on March 31, 2001.

FOR FURTHER INFORMATION CONTACT: Chief Warrant Officer R.L. Houck, Marine Events Coordinator, Commander, Coast Guard Activities Baltimore, 2401 Hawkins Point Road, Baltimore, MD 21226-1971, (410) 576-2674.

SUPPLEMENTARY INFORMATION: The U.S. Naval Academy Sailing Squadron will sponsor the 22nd Annual Safety at Sea Seminar on the waters of the Severn River Spa Creek at Annapolis, Maryland. Waterbone activities will include demonstrations of life rafts, pyrotechnics, man overboard procedures, and a helicopter rescue. In order to ensure the safety of participants, spectators and transiting vessels, 33 CFR 100.511 will be in effect for the duration of the event. Under provisions of 33 CFR 100.511, vessels may not enter the regulated area without permission from the Coast Guard Patrol Commander. Spectator vessels may anchor outside the regulated area but may not block a navigable channel. Because these restrictions will only be in effect for a limited period, they should not result in a significant disruption of maritime traffic.

Dated: February 22, 2001.
T.C. Paar,
Captain, U.S. Coast Guard, Acting Commander, Fifth Coast Guard District.

[FR Doc. 01-5267 Filed 3-2-01; 8:45 am]

BILLING CODE 4910-15-M